DEPARTMENT OF ENERGY

Federal Energy Regulatory Commission

[Project No. 13509-002]

Turnagain Arm Tidal Energy Corporation; Notice of Preliminary Permit Application Accepted for Filing and Soliciting Comments, Motions To Intervene, and Competing Applications

On February 1, 2013, the Turnagain Arm Tidal Energy Corporation, filed an application for a preliminary permit, pursuant to section 4(f) of the Federal Power Act (FPA), proposing to study the feasibility of the Turnagain Arm Tidal Electric Generation Project (Turnagain Arm Project or project) to be located on the Turnagain Arm of Cook Inlet and adjacent lands of the Kenai Peninsula Borough and the Municipality of Anchorage, Alaska. The sole purpose of a preliminary permit, if issued, is to grant the permit holder priority to file a license application during the permit term. A preliminary permit does not authorize the permit holder to perform any land-disturbing activities or otherwise enter upon lands or waters owned by others without the owners' express permission.

The proposed project would consist of the following: (1) An 8-mile-long tidal fence situated between Fire Island near Anchorage and Point Possession in the Kenai Peninsula Borough, and consisting of 24, 10-megawatt (MW) Davis turbines with tidal-to-electrical energy generating units for a total installed capacity of 240 MW; (2) one control building/substation onshore near Anchorage and one near Point Possession; (3) an 18-mile-long, 230-kilovolt (kV) submerged transmission line connecting the tidal fence to the existing Chugach Electric Association substation at Point Woronzof in Anchorage and a new substation at Point Possession; (4) a 28-mile-long, 230-kV aboveground transmission line running parallel to an existing Homer Electric Association (HEA) transmission line corridor and extending from Point Possession to the existing HEA Nikiski substation; and (5) appurtenant facilities. The proposed project would have an estimated average annual generation of 1,271,950 megawatt-hours.

Applicant Contact: Mr. Dominic Lee, President and Chief Executive Officer, Turnagain Arm Tidal Energy Corporation, 821 N. Street, Suite 207, Anchorage, Alaska 99501; phone: (907) 274-7571.

FERC Contact: Kim Nguyen; phone: (202) 502-6105.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13509) in the docket number field to access the document. For assistance, contact FERC Online Support.

Dated: July 18, 2013.
Kimberly D. Bose,
Secretary.

[FR Doc. 2013-17812 Filed 7-23-13; 8:45 am]

BILLING CODE 6717-01-P